DEPARTMENT OF HEALTH AND HUMAN SERVICES

Agency for Healthcare Research and Quality

Agency Information Collection Activities: Proposed Collection; Request

AGENCY: Agency for Healthcare Research and Quality (AHRQ), Department of Health and Human Services (HHS).

ACTION: Request for Information; notice of extension of comment period.

SUMMARY: For the “Opioid Management in Older Adults” project, AHRQ is seeking to identify innovative approaches to managing opioid medications for chronic pain that are particularly relevant for older adults. Use of long-term opioid therapy in older adults can be especially problematic because of increased risks such as delirium, falls, and dementia. Through this notice, the comment period has been extended to June 30, 2020. The subject matter content remains unchanged from the original notice which was previously published on March 18, 2020 (https://www.govinfo.gov/content/pkg/FR-2020-03-18/pdf/2020-05612.pdf).

DATES: Information must be received by June 30, 2020.

ADDRESSES: Written comments should be submitted by email to: Opioids_OlderAdults@abtassoc.com.

FOR FURTHER INFORMATION CONTACT: Parivash Nourjah, Parivash.nourjah@ahrq.gov, or 301-427-1106.

SUPPLEMENTARY INFORMATION:

The United States is in the midst of an unprecedented opioid epidemic that is affecting people from all walks of life. Regulators and policy makers have initiated many activities to curb the epidemic, but relatively little attention has been paid to the growing toll of opioid use, opioid misuse and opioid use disorder (OUD) among older adults.

The opioid crisis in older adults is strongly related to challenges in prescription opioid management in this population. Older adults have a high prevalence of chronic pain and are especially vulnerable to suffering adverse events from opioid use, making safe prescribing more challenging even when opioids are an appropriate therapeutic choice. Identifying adverse effects due to opioid use, misuse or abuse is complicated further by factors such as co-occurring medical disorders that can mimic the effects of opioid use. There is also a risk of attributing clinical findings in older adults (e.g. personality changes, falls/balance problems, difficulty sleeping, and heart problems) to other conditions that are also common with age. If adverse events due to opioid prescriptions are identified, finding appropriate alternatives for pain management can be challenging if other pharmacologic options (such as NSAIDS) are contraindicated or mobility issues limit access to other therapeutic options.

Diagnosis of substance use disorders is also more complicated in this population. Clinicians may not associate drug misuse or addiction with older adults or they may be inadequately trained in identification and treatment of opioid misuse and OUD among older adults, and hence may not monitor for the signs of opioid use disorder in this population.

Successfully optimizing the prescribing and use of opioids in older adults will require addressing the issue at many points along the care continuum where older adults may need additional attention or a different approach. AHRQ wants to identify specific tools, strategies and approaches to opioid management in older adults throughout the breadth of the care delivery continuum, from avoiding opioid initiation to screening for opioid misuse and opioid use disorder, as well as approaches to opioid tapering in older adults.

AHRQ is interested in all innovative approaches that address the opioid management concerns in older adults listed above, but respondents are welcome to address as many or as few as they choose and to address additional areas of interest not listed.

Strategies and approaches could come from a variety of health care settings including, but not limited to, primary care and other ambulatory care clinics, emergency departments, home health care organizations, skilled nursing care settings, and inpatient care. Other sources of these strategies might include health care payers, accountable care organizations, and organizations that provide external quality improvement support. Some of the examples of the types of innovations we are looking for might be specific tools or workflows that support providers to assess the risk/benefit balance of opioids within a multidisciplinary approach in pain management; to optimize and monitor the opioid prescribing when appropriate, including tapering strategies; to screen and treat for opioid misuse or opioid use disorder; or to involve family or other caregivers of an older adult in conversations about opioid safety. Descriptions of strategies or approaches should include the setting where it is deployed and the type of patient population served.

This RFI is for planning purposes only and should not be construed as a policy, solicitation for applications, or as an obligation on the part of the Government to provide support for any ideas in response to it. AHRQ will use the information submitted in response to this RFI at its discretion, and will not provide comments to any respondent's submission. However, responses to the RFI may be reflected in future solicitation(s) or policies. Respondents are advised that the Government is under no obligation to acknowledge receipt of the information received or provide feedback to respondents with respect to any information submitted. No proprietary, classified, confidential or sensitive information should be included in your response. The Government reserves the right to use any non-proprietary technical information in any resultant solicitation(s). The contents of all submissions will be made available to the public upon request. Submitted materials must be publicly available or able to be made public.

Dated: April 21, 2020.
Virginia L. Mackay-Smith,
Associate Director, Office of the Director, AHRQ.

[FR Doc. 2020-08727 Filed 4-23-20; 8:45 am]

BILLING CODE 4160-90-P